DEPARTMENT OF TRANSPORTATION

Federal Aviation Administration

14 CFR Part 95

[Docket No. 31624; Amdt. No. 587]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, October 2, 2025.

FOR FURTHER INFORMATION CONTACT: Gary Petty, Manager (Acting), Standards Section, Flight Procedures and Airspace Group, Flight Technologies and Procedures Division, Office of Safety Standards, Flight Standards Service, Aviation Safety, Federal Aviation Administration. Mailing Address: FAA Mike Monroney Aeronautical Center, Flight Procedures and Airspace Group, 6500 South MacArthur Blvd., STB Annex, Bldg. 26, Room 217, Oklahoma City, OK 73099. Telephone (405) 954-1139.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on September 4, 2025.
Gary Petty,
Manager (Acting), Standards Section, Flight Procedures and Airspace Group, Flight Technologies and Procedures Division, Office of Safety Standards, Flight Standards Service, Aviation Safety, Federal Aviation Administration.

Adoption of the Amendment

Accordingly, pursuant to the authority delegated to me by the Administrator, part 95 of the Federal Aviation Regulations (14 CFR part 95) is amended as follows effective at 0901 UTC, 02 Oct 2025.

PART 95—IFR Altitudes

1. The authority citation for part 95 continues to read as follows:

Authority: 49 U.S.C. 106(g), 40103, 40113 and 14 CFR 11.49(b)(2).

2. Part 95 is amended to read as follows:

Revisions to IFR Altitudes & Changeover Point
[Amendment 587 effective date October 2, 2025]
From | To | MEA
§ 95.0040 Colored Federal Airways
§ 95.4 Green Federal Airway G6 Is Amended To Delete
ST MARYS, AK NDB | ANIAK, AK NDB | 4000 MAA—17500

From | To | MEA | MAA
§ 95.3000 Low Altitude RNAV Routes
§ 95.3406 RNAV Route T406 Is Amended To Read in Part
KNZLY, LA WP | ZIROR, LA FIX | 1700 | 17500
RCOLA, LA WP | WALKE, LA FIX | 1900 | 17500

From | To | MEA
§ 95.6001 Victor Routes—U.S.
§ 95.6002 VOR Federal Airway V2 Is Amended To Read in Part
BANDR, WA FIX | * BEEZR, WA FIX | ** 8400
* 9000—MRA |  | MAA—17500
** MEA IS ESTABLISHED WITH A GAP IN NAVIGATION SIGNAL COVERAGE.
§ 95.6029 VOR Federal Airway V29 Is Amended To Read in Part
SCOFF, PA FIX | BINGHAMTON, NY VOR/DME | 3700 MAA—17500
§ 95.6038 VOR Federal Airway V38 Is Amended To Delete
APPLETON, OH VORTAC | ZANESVILLE, OH VOR/DME | 3000 MAA—17500
ZANESVILLE, OH VOR/DME | PARKERSBURG, WV VOR/DME | 3000 MAA—17500
§ 95.6051 VOR Federal Airway V51 Is Amended To Read in Part
LIVINGSTON, TN VOR/DME | LOUISVILLE, KY VORTAC | * 7000
* 3100—MOCA |  | MAA—17500
§ 95.6066 VOR Federal Airway V66 Is Amended To Read in Part
MISSION BAY, CA VORTAC | RYAHH, CA FIX
| E BND | 8400
| W BND | 4000 MAA—17500
§ 95.6107 VOR Federal Airway V107 Is Amended To Read in Part
OAKLAND, CA VOR/DME | * COMMO, CA FIX | ** 5000
* 4300—MCA COMMO, CA FIX, W BND
** 4000—MOCA |  | MAA—17500
§ 95.6108 VOR Federal Airway V108 Is Amended To Read in Part
MEEKER, CO VOR/DME | RED TABLE, CO VOR/DME | 14000 MAA—17500
§ 95.6132 VOR Federal Airway V132 Is Amended To Read in Part
DISKS, KS FIX | * SPELT, KS FIX | ** 5000
* 5000—MRA
** 3900—MOCA |  | MAA—17500
SPELT, KS FIX | HUTCHINSON, KS VOR/DME | 3400 MAA—17500
§ 95.6133 VOR FEderal Airway V133 Is Amended To Delete
CHARLESTON, WV VOR/DME | ZANESVILLE, OH VOR/DME | 3000 MAA—17500
§ 95.6144 VOR Federal Airway V144 Is Amended To Delete
APPLETON, OH VORTAC | ZANESVILLE, OH VOR/DME | 3000 MAA—17500
ZANESVILLE, OH VOR/DME | BEALL, OH FIX | 3000 MAA—17500
BEALL, OH FIX | * MORGANTOWN, WV VOR/DME | 4000
*4600—MCA MORGANTOWN, WV VOR/DME, SE BND |  | MAA—17500
Is Amended To Read in Part
MORGANTOWN, WV VOR/DME | KESSEL, WV VOR/DME | 6000 MAA—17500
§ 95.6146 VOR Federal Airway V146 Is Amended To Read in Part
ALBANY, NY VORTAC | CHESTER, MA VOR/DME | * 4700 MAA—17500
* ALBANY R-139 UNUSABLE USE CHESTER R-319
§ 95.6184 VOR Federal Airway V184 Is Amended To Read in Part
FALON, NJ FIX | ZIGGI, NJ FIX | * 4000
*1600—MOCA |  | MAA—17500
*2500—GNSS MEA
§ 95.6211 VOR Federal Airway V211 Is Amended To Read in Part
* BRAZO, NM FIX | DURANGO, CO VOR/DME | 12300
* 13000—MRA |  | MAA—17500
§ 95.6214 VOR Federal Airway V214 Is Amended To Delete
GLOOM, OH FIX | ZANESVILLE, OH VOR/DME | * 4000
* 2600—MOCA |  | MAA—17500
* 3000—GNSS MEA
ZANESVILLE, OH VOR/DME | BELLAIRE, OH VOR/DME | 3000 MAA—17500
§ 95.6234 VOR Federal Airway V234 Is Amended To Read in Part
AUGIE, MO FIX | ROACH, MO FIX | * 000 MAA—17500
* 2900—GNSS MEA
ROACH, MO FIX | VICHY, MO VOR/DME | 3200 MAA—17500
§ 95.6291 VOR Federal Airway V291 Is Amended To Read in Part
WINSLOW, AZ VORTAC | FLAGSTAFF, AZ VOR/DME | 10500 MAA—17500
§ 95.6298 VOR Federal Airway V298 Is Amended To Read in Part
BANDR, WA FIX | * BEEZR, WA FIX | * 8400
* 9000—MRA |  | MAA—17500
** MEA IS ESTABLISHED WITH A GAP IN NAVIGATION SIGNAL COVERAGE.
PASCO, WA VOR/DME | PENDLETON, OR VORTAC | 4500 MAA—17500
PENDLETON, OR VORTAC | * CABAN, OR FIX | 6000
* 6100—MCA CABAN, OR FIX, E BND |  | MAA—17500
CABAN, OR FIX | * IBEAM, OR FIX | 8400
* 9200—MCA IBEAM, OR FIX, E BND |  | MAA—17500
IBEAM, OR FIX | DONNELLY, ID VOR/DME | * 12100 MAA—17500
* MEA IS ESTABLISHED WITH A GAP IN NAVIGATION SIGNAL COVERAGE.
§ 95.6301 VOR Federal Airway V301 Is Amended To Read in Part
SUNOL, CA FIX | OAKLAND, CA VOR/DME | 4900 MAA—17500
OAKLAND, CA VOR/DME | * COMMO, CA FIX | ** 5000
* 4300—MCA COMMO, CA FIX, W BND
** 4000—MOCA |  | MAA—17500
§ 95.6310 VOR Federal Airway V310 Is Amended To Read in Part
LOUISVILLE, KY VORTAC | UNCKL, KY FIX | * 9000
*2800—MOCA |  | MAA—17500
UNCKL, KY FIX | LONDON, KY VOR/DME
| NW BND | * 9000
| SE BND | * 3300
*3000—MOCA |  | MAA—17500
§ 95.6327 VOR Federal Airway V327 Is Amended To Read in Part
OATES, AZ FIX | * FLAGSTAFF, AZ VOR/DME | 10500 MAA—17500
* MTA V327 N TO V291 E 11000
§ 95.6368 VOR Federal Airway V368 Is Amended To Read in Part
RODDS, CO FIX | * BRAZO, NM FIX
| NE BND | 13300
| SW BND | 14000
* 13000—MRA |  | MAA—17500
BRAZO, NM FIX | * MANUL, NM FIX | ** 14000
* 14000—MCA MANUL, NM FIX, E BND
** 11300—MOCA |  | MAA—17500
MANUL, NM FIX | TURLY, NM FIX | 10000 MAA—17500
§ 95.6374 VOR Federal Airway V374 Is Amended To Read in Part
BINGHAMTON, NY VOR/DME | * GAYEL, NY FIX | ** 10000
* 10000—MCA GAYEL, NY FIX, NW BND
** 4800—MOCA |  | MAA—17500
** 4800—GNSS MEA
§ 95.6460 VOR Federal Airway V460 Is Amended To Read in Part
MISSION BAY, CA VORTAC | RYAHH, CA FIX
| E BND | 8400
| W BND | 4000 MAA—17500
§ 95.6502 VOR Federal Airway V502 Is Amended To Read in Part
DISKS, KS FIX | * SPELT, KS FIX | ** 5000
* 5000—MRA
** 3900—MOCA |  | MAA—17500
SPELT, KS FIX | HUTCHINSON, KS VOR/DME | 3400 MAA—17500
§ 95.6514 VOR Federal Airway V514 Is Amended To Read in Part
MISSION BAY, CA VORTAC | RYAHH, CA FIX
| E BND | 8400
| W BND | 4000 MAA—17500
§ 95.6528 VOR Federal Airway V528 Is Amended To Read in Part
EAGUL, AZ FIX | * PAYSO, AZ FIX | ** 16000
* 16000—MCA PAYSO, AZ FIX, SW BND
** 10100—MOCA |  | MAA—17500
PAYSO, AZ FIX | ST JOHNS, AZ VORTAC | * 13000
* 10000—MOCA |  | MAA—17500
§ 95.6532 VOR Federal Airway V532 Is Amended To Read in Part
AKINS, OK FIX | OKMULGEE, OK VOR/DME | * 3000
*2400—MOCA |  | MAA—17500
§ 95.6572 VOR Federal Airway V572 Is Amended To Read in Part
FRISY, AZ FIX | * FLAGSTAFF, AZ VOR/DME | 11500
* 11000—MCA FLAGSTAFF, AZ VOR/DME, NE BND |  | MAA—17500
§ 95.6581 VOR Federal Airway V581 Is Amended To Read in Part
ST PETERSBURG, FL VORTAC | * TUMPY, FL FIX | 2000
* 5000—MCA TUMPY, FL FIX, NE BND |  | MAA—17500
TUMPY, FL FIX | * DADES, FL FIX | ** 5000
* 5000—MCA DADES, FL FIX, SW BND |  | MAA—17500
** 2000—GNSS MEA
§ 95.6320 Alaska VOR Federal Airway V320 Is Amended To Read in Part
ERLAN, AK FIX | WINOR, AK FIX | UNUSABLE
WINOR, AK FIX | * FRIDA, AK FIX | UNUSABLE
*9500—MRA
§ 95.6440 Alaska VOR Federal Airway V440 Is Amended To Read in Part
YUCON, AK FIX | GANES, AK FIX | UNUSABLE
ERLAN, AK FIX | WINOR, AK FIX | UNUSABLE
WINOR, AK FIX | * FRIDA, AK FIX | UNUSABLE
*9500—MRA
§ 95.6444 Alaska VOR Federal Airway V444 Is Amended To Delete
BARROW, AK VOR/DME | CHIPS, AK FIX | * 2000
* 1200—MOCA |  | MAA—17500
CHIPS, AK FIX | BRONX, AK FIX | * 5000
* 1200—MOCA |  | MAA—17500
BRONX, AK FIX | EVANSVILLE, AK NDB | * 10000
* 9100—MOCA |  | MAA—17500
EVANSVILLE, AK NDB | BETTLES, AK VOR/DME | 3500 MAA—17500
§ 95.6459 Alaska VOR Federal Airway V459 Is Amended To Delete
EMMONAK, AK VOR/DME | ST MARYS, AK NDB | 3000 MAA—17500
§ 95.6480 Alaska VOR Federal Airway V480 Is Amended To Read in Part
ANIAK, AK FIX | JOANY, AK FIX | UNUSABLE
JOANY, AK FIX | MC GRATH, AK VORTAC | UNUSABLE
MC GRATH, AK VORTAC | MEFRA, AK FIX | UNUSABLE
MEFRA, AK FIX | NENANA, AK VORTAC | UNUSABLE
§ 95.6496 Alaska VOR Federal Airway V496 Is Amended To Delete
HOOPER BAY, AK VOR/DME | ST MARYS, AK NDB | 3500 MAA—17500
§ 95.6498 Alaska VOR Federal Airway V498 Is Amended To Read in Part
MC GRATH, AK VORTAC | NIXON, AK FIX | UNUSABLE
NIXON, AK FIX | AHVUH, AK FIX | UNUSABLE
§ 95.6504 Alaska VOR Federal Airway V504 Is Amended To Delete
BETTLES, AK VOR/DME | EVANSVILLE, AK NDB | 3500 MAA—17500
EVANSVILLE, AK NDB | DERIK, AK FIX | * 10000
* 9500—MOCA |  | MAA—17500
DERIK, AK FIX | MUKTU, AK FIX
| S BND | * 10000
| N BND | * 7000
*3800—MOCA |  | MAA—17500
MUKTU, AK FIX | SHELO, AK FIX
| S BND | * 10000
| N BND | * 5000
*3000—MOCA |  | MAA—17500
SHELO, AK FIX | DEADHORSE, AK VOR/DME
| S BND | 10000
| N BND | 2000 MAA—17500
§ 95.6510 Alaska VOR Federal Airway V510 Is Amended To Read in Part
ERLAN, AK FIX | WINOR, AK FIX | UNUSABLE
WINOR, AK FIX | FFITZ, AK FIX | UNUSABLE

From | To | MEA | MAA
§ 95.7001 Jet Routes
§ 95.7030 Jet Route J30 Is Amended To Read in Part
JOLIET, IL VOR/DME | APPLETON, OH VORTAC | 20000 | 45000

Airway Segment: From | Airway Segment: To | Changeover Points: Distance | Changeover Points: From
§ 95.8003 VOR Federal Airway Changeover Point
Is Amended To Delete Changeover Point
SEATTLE, WA VORTAC | ELLENSBURG, WA VOR/DME | 47 | SEATTLE.
V133 Is Amended To Delete Changeover Point
CHARLESTON, WV VOR/DME | ZANESVILLE, OH VOR/DME | 52 | CHARLESTON.
V146 Is Amended To Delete Changeover Point
ALBANY, NY VORTAC | CHESTER, MA VOR/DME | 8 | ALBANY.
V234 Is Amended To Add Changeover Point
BUTLER, MO VORTAC | VICHY, MO VOR/DME | 59 | BUTLER
V298 Is Amended To Delete Changeover Point
SEATTLE, WA VORTAC | ELLENSBURG, WA VOR/DME | 47 | SEATTLE.
Alaska V444 Is Amended To Delete Changeover Point
BARROW, AK VOR/DME | EVANSVILLE, AK NDB | 105 | BARROW.
Alaska V459 Is Amended To Delete Changeover Point
EMMONAK, AK VOR/DME | ST MARYS, AK NDB | 40 | EMMONAK.
Alaska V496 Is Amended To Delete Changeover Point
HOOPER BAY, AK VOR/DME | ST MARYS, AK NDB | 40 | HOOPER BAY.
Alaska V504 Is Amended To Delete Changeover Point
BETTLES, AK VOR/DME | DEADHORSE, AK VOR/DME | 116 | BETTLES.

[FR Doc. 2025-17225 Filed 9-5-25; 8:45 am]

BILLING CODE 4910-13-P